DEPARTMENT OF THE INTERIOR

Bureau of Land Management

[LLAKA01000.L16100000.DQ0000.LXSS086L0000]

Notice of Availability of the Draft Resource Management Plan Amendment, Draft Environmental Impact Statement for the Ring of Fire Resource Management Plan—Haines Planning Area, Alaska

AGENCY: Bureau of Land Management, Interior.

ACTION: Notice of availability.

SUMMARY: In accordance with the National Environmental Policy Act of 1969, as amended (NEPA), and the Federal Land Policy and Management Act of 1976, as amended, the Bureau of Land Management (BLM) has prepared a Draft Resource Management Plan (RMP) Amendment/Draft Environmental Impact Statement (EIS) for the Ring of Fire RMP for the Haines Planning Area and by this notice is announcing the opening of the comment period.

DATES: To ensure that comments will be considered, the BLM must receive written comments on the Draft RMP Amendment/Draft EIS within 90 days following the date of publication of this Notice in the Federal Register. The BLM will announce future meetings or hearings and any other public involvement activities at least 15 days in advance through public notices, media news releases, and/or mailings.

ADDRESSES: You may submit comments related to the Ring of Fire RMP—Haines Planning Area Amendment by any of the following methods:

• Email: BLM_AK_ROF_AMEND@blm.gov.

• Fax: 907-267-1267.

• Mail: BLM-Anchorage Field Office, Attention: Haines Amendment, 4700 BLM Road, Anchorage, Alaska 99507.

Copies of the Draft RMP Amendment/Draft EIS are available at the Anchorage Field Office at the above address; or, on the Anchorage Field Office's Planning Web site: http://www.blm.gov/ak/st/en/prog/planning.html.

FOR FURTHER INFORMATION CONTACT: Molly Cobbs, Anchorage District Planning and Environmental Coordinator, 907-267-1221, mcobbs@blm.gov, or in writing at the address above. Persons who use a telecommunications device for the deaf (TDD) may call the Federal Information Relay Service (FIRS) at 1-800-877-8339 to contact the above individual during normal business hours. FIRS is available 24 hours a day, 7 days a week, to leave a question with the above individual. You will receive a reply during normal business hours.

SUPPLEMENTARY INFORMATION: The Planning Area is located in southeast Alaska, and consists of approximately 320,000 acres of BLM-managed public lands located in two main blocks or parcels. The north block is located northwest of Skagway along the United States-Canada border and the south block is located southwest of the city of Haines along the boundary of Glacier Bay National Park. The Planning Area encompasses the cities of Haines and Skagway.

The Anchorage Field Office began a scoping process for this RMP Amendment and Draft EIS on March 26, 2009, with the publication of the Notice of Intent in the Federal Register (74 FR 13222). The formal scoping period ended June 26, 2009. Public meetings were held during the scoping period in the communities of Haines, Skagway, and Anchorage. The majority of comments received discussed wildlife and wildlife habitat, particularly mountain goats, as a reason to create an Area of Critical Environmental Concern (ACEC). Several comments were also offered in support of maintaining the existing Monitoring and Control Area. Other comments focused on whether or not to change the Special Recreation Management Area (SRMA) designation. Based on the BLM's management concerns and input received from cooperating agencies; other Federal, State, and local agencies; and the public during the scoping period, the Draft RMP Amendment and Draft EIS evaluate potential impacts on wildlife populations from recreation activities occurring on BLM-managed lands in the Planning Area. Additionally, the Draft EIS includes, but is not limited to, analysis of noise impacts from helicopters; impacts on recreational opportunities and experiences; and impacts to Lands with Wilderness Characteristics from helicopters. Permitted recreation activities and helicopter landings in the planning area include commercial filming, glacier landing tours, and helicopter-supported ski and winter trekking excursions. In 2002, a Monitoring and Control Area was established in the northwest portion of the north block. Commercial helicopter landings were prohibited within the Monitoring and Control Area boundary in order to provide a source of consistent monitoring data when adaptive management changes were necessary. Originally, the Monitoring and Control Area consisted of 112,790 acres; however, after recent land conveyances to the State of Alaska and Native Corporations, the area now consists of 98,000 acres.

The 2008 Ring of Fire RMP Record of Decision (ROD) designated an SRMA in the north block of the Planning Area. At the time the ROD was completed, the BLM assumed that most of the BLM-managed lands in the south block would be conveyed to the State and the SRMA boundary was not extended to the south block. Due to recent policy changes in the BLM's focus and use of SRMAs, this planning effort reevaluates whether to retain this designation or to change it to an Extensive Recreation Management Area (ERMA) designation.

The Ring of Fire RMP ROD also deferred to a subsequent planning effort evaluation of whether any ACECs should be designated in the Haines Planning Area. The BLM has now evaluated the resources in the Planning Area to determine whether any areas meet the ACEC relevance and importance criteria found in 43 CFR 1610.7-2 and BLM Manual for ACECs (MS-1613). The BLM determined that none of the areas in the Planning Area meet the ACEC relevance and importance criteria and therefore the Draft RMP Amendment/Draft EIS does not contain any proposed ACEC designations. Although some areas in the Planning Area contain exceptional scenery as well as populations of mountain goats and bald eagles, the areas do not have more than locally significant qualities when compared to similar resources in the region. The wildlife populations, scenery, and natural processes in the Planning Area are typical of all of Southeast Alaska, and are not unique to the region. Designation of an ACEC in the Planning Area is addressed in the Draft EIS as an Alternative Considered but Eliminated from Further Study.

Permitting helicopter and other organized flight excursions in the project area is one of the primary administrative actions of BLM in the Planning Area. As of 2011, two helicopter operators are authorized for up to 2,400 summer landings annually in the Haines Block SRMA (north block only). However, at least two additional helicopter operators have also requested landing authorizations on BLM-managed lands in the Planning Area. All requests for winter landing authorizations are currently on hold pending the outcome of this planning effort.

Four alternatives were analyzed in the Draft EIS:

Alternative A, the No Action Alternative, is a continuation of existing management. The SRMA designation would be retained in the north block, as would the Monitoring and Control Area. A total of 2,400 summer landings would be permitted in the project area annually.

Under Alternative B, the SRMA designation would be retained in the north block and would be expanded to include the south block. The Monitoring and Control Area would be eliminated. A maximum of 7,500 summer and winter landings would be permitted in the project area annually.

Under Alternative C, the SRMA designation would be changed to an ERMA designation and would be extended to all BLM-managed lands in the Planning Area. The Monitoring and Control Area would be retained for a period of 5 years from the signing of the ROD to provide a control area for mountain goat studies conducted jointly by the BLM and the Alaska Department of Fish and Game. After the 5-year period expires, the Monitoring and Control Area would be eliminated and landing permit applications would be accepted for site-specific NEPA review prior to the issuance of any new authorizations. A maximum of 4,000 summer and winter landings would be permitted annually.

Alternative D is the BLM's preferred alternative. Under Alternative D, the SRMA designation would be changed to an ERMA as described for Alternative C. The Monitoring and Control Area would be retained for 5 years and would then be eliminated as described for Alternative C. A maximum of 6,000 summer and winter landings would be permitted annually.

The 2009 Notice of Intent identified the associated NEPA document for the plan amendment as a Supplemental Environmental Impact Statement. Instead, the associated NEPA document is a Draft Environmental Impact Statement and will be referred to as such from this point forward.

Before including your address, phone number, email address, or other personal identifying information in your comment, you should be aware that your entire comment-including your personal identifying information-may be made publicly available at any time. While you can ask us in your comment to withhold your personal identifying information from public review, we cannot guarantee that we will be able to do so.

Following the public comment period, comments will be used to prepare the Final Environmental Impact Statement. The BLM will respond to each substantive comment by making appropriate revisions to the document or explaining why a comment did not warrant a subsequent change.

Authority: 40 CFR 1506.6, 40 CFR 1506.10, 43 CFR 1610.2.

Ted A. Murphy,
Acting State Director.

[FR Doc. 2012-30160 Filed 12-13-12; 8:45 am]

BILLING CODE 4310-JA-P